DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 14, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal Plant and Health Inspection Service

Title: Comprehensive Aquaculture Health Program; Use of MI-CO Application.

OMB Control Number: 0579-NEW.

Summary of Collection: The U.S. Department of Agriculture (USDA), Animal and Plant Health Inspection Service (APHIS), Veterinary Services (VS) unit is responsible for, among other things, protecting the health of the nation's aquatic livestock and supporting safe trade of those animals and their products. This authority is provided under the Animal Health Protection Act (7 U.S.C. 8301 et seq.). Further, Executive Order 13921, Promoting American Seafood Competitiveness and Economic Growth, rescinded the 2008 National Aquatic Animal Health Plan, and authorized a new national aquaculture health plan establishing USDA as the competent authority for the protection, inspection, and certification of aquatic livestock health. The Animal and Plant Health Inspection Service (APHIS) regulates the importation of animals and animal products into the United States to guard against the introduction of animal diseases not present or prevalent here.

Need and Use of the Information: The National Aquaculture Health Plan and Standards (NAHPS) provides guidance for pathogen testing, reporting, and laboratory standards in addition to outlining health inspection options for aquatic livestock. One of these inspection options is the Comprehensive Aquaculture Health Program Standards (CAHPS). CAHPS was developed in partnership with the U.S. aquaculture industry as a voluntary program that establishes a framework to improve and verify the health of aquatic livestock produced in the United States. Principles outlined in the CAHPS provide for early disease detection, surveillance, risk mitigation, reporting, and response for the control of aquatic animal pathogens, especially those reportable to the World Organization for Animal Health (WOAH), and to prevent their dissemination via aquatic animal sale, movement, and trade.

The MI-CO app will retain information from inspection to inspection. VS will update participants' information annually. VS will not physically collect or remove from the premises any of the documentation unless the participant gives express permission to attach documents to their CAHPS portfolio in the app. VS personnel will annually review and enter information for every CAHPS participant to support compliance with CAHPS.

Description of Respondents: Businesses or other for-profit organizations.

Number of Respondents: 30.

Frequency of Responses: Reporting: On occasion.

Total Burden Hours: 378.

Rachelle Ragland-Greene,
Departmental Information Collection Clearance Officer.

[FR Doc. 2024-10574 Filed 5-14-24; 8:45 am]

BILLING CODE 3410-34-P